DEPARTMENT OF TRANSPORTATION

National Highway Traffic Safety Administration

[Docket No. NHTSA-2022-0101; Notice 1]

AROW Global Corp., Receipt of Petition for Decision of Inconsequential Noncompliance

AGENCY: National Highway Traffic Safety Administration (NHTSA), Department of Transportation (DOT).

ACTION: Receipt of petition.

SUMMARY: AROW Global Corp. (AROW) has determined that certain glass panes for use as original equipment and replacement service parts of side window assemblies on transit buses do not fully comply with Federal Motor Vehicle Safety Standard (FMVSS) No. 205, Glazing Materials. AROW filed a noncompliance report dated September 19, 2022, and later amended the report on September 20, 2022. AROW subsequently petitioned NHTSA (the “Agency”) on October 12, 2022, for a decision that the subject noncompliance is inconsequential as it relates to motor vehicle safety. This document announces receipt of AROW's petition.

DATES: Send comments on or before August 26, 2024.

ADDRESSES: Interested persons are invited to submit written data, views, and arguments on this petition. Comments must refer to the docket and notice number cited in the title of this notice and may be submitted by any of the following methods:

• Mail: Send comments by mail addressed to the U.S. Department of Transportation, Docket Operations, M-30, West Building Ground Floor, Room W12-140, 1200 New Jersey Avenue SE, Washington, DC 20590.

• Hand Delivery: Deliver comments by hand to the U.S. Department of Transportation, Docket Operations, M-30, West Building Ground Floor, Room W12-140, 1200 New Jersey Avenue SE, Washington, DC 20590. The Docket Section is open on weekdays from 10 a.m. to 5 p.m. except for Federal Holidays.

• Electronically: Submit comments electronically by logging onto the Federal Docket Management System (FDMS) website at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the internet at https://www.regulations.gov by following the online instructions for accessing the dockets. The docket ID number for this petition is shown in the heading of this notice.

DOT's complete Privacy Act Statement is available for review in a Federal Register notice published on April 11, 2000 (65 FR 19477-78).

FOR FURTHER INFORMATION CONTACT: Jack Chern, General Engineer, NHTSA, Office of Vehicle Safety Compliance, (202) 366-0661.

SUPPLEMENTARY INFORMATION:

I. Overview: AROW determined that certain glass panes for use as orginal equipment and replacement service parts of side window assemblies on transit buses, do not fully comply with paragraph S6.2 of FMVSS No. 205, Glazing Materials (49 CFR 571.205).

AROW filed a noncompliance report dated September 19, 2022, and later amended the report on September 20, 2022, pursuant to 49 CFR part 573, Defect and Noncompliance Responsibility and Reports. AROW petitioned NHTSA on October 12, 2022, for an exemption from the notification and remedy requirements of 49 U.S.C. chapter 301 on the basis that this noncompliance is inconsequential as it relates to motor vehicle safety, pursuant to 49 U.S.C. 30118(d) and 30120(h) and 49 CFR part 556, Exemption for Inconsequential Defect or Noncompliance.

This notice of receipt of AROW's petition is published under 49 U.S.C. 30118 and 30120 and does not represent any agency decision or another exercise of judgment concerning the merits of the petition.

II. Equipment Involved: Approximately 1,600 certain glass panes for use as orginal equipment and replacement service parts of side window assemblies on transit buses, manufactured between March 31, 2022, and September 9, 2022, were reported by the manufacturer.

III. Noncompliance: AROW explains that the subject glass panes are marked with the incorrect manufacturer's code, and therefore, do not comply with paragraph S6.2 of FMVSS No. 205. Specifically, the subject glass panes are marked “DOT 1187” when they should be marked “DOT 1178.”

IV. Rule Requirements: Paragraph S6.2 of FMVSS No. 205 includes the requirements relevant to this petition. A prime glazing manufacturer certifies its glazing by adding to the marks required by section 7 of ANSI/SAE Z26.1-1996, in letters and numerals of the same size, the symbol “DOT” and a manufacturer's code mark that NHTSA assigns to the manufacturer. NHTSA will assign a code mark to a manufacturer after the manufacturer submits a written request which must include the company name, address, and a statement from the manufacturer certifying its status as a prime glazing manufacturer as defined in paragraph S4 of FMVSS No. 205.

V. Summary of AROW's Petition: The following views and arguments presented in this section, “V. Summary of AROW's Petition,” are the views and arguments provided by AROW. They have not been evaluated by the Agency and do not reflect the views of the Agency. AROW describes the subject noncompliance and contends that the noncompliance is inconsequential as it relates to motor vehicle safety.

AROW explains that the subject glass panes contain the manufacturer's code mark “DOT 1187,” which incorrectly identifies Glass Industry PLC as the manufacturer. AROW says that while the manufacturer code on the subject glass panes is incorrect, the certification mark contains the correct AS item number and the glass panes meet the FMVSS No. 205 technical requirements as applicable to tempered glass for use in motor vehicles.¹

¹ AROW's petition includes supporting test reports issued by a third part testing services provider.

AROW states that the subject glass panes are intended for use in the North American transit bus market, where there are only a few glazing suppliers, and the production volume of vehicles are relatively low. The manufacturer indicated by the incorrect manufacturer code on the subject glass panes, Glass Industry PLC, is not known to supply the affected side window assemblies during the specified time period the noncompliance may exist. Furthermore, AROW believes that it is unlikely that the manufacturer code marked on the subject glass panes would be used to obtain new or replacement parts. Instead, AROW believes that the bus manufacturer would be contacted to obtain replacement parts, and the part numbers and part sources would be identified from the original build contract. Moreover, AROW states that all parts contain its corporate logo, which indicates AROW as the supplier of the part.

AROW contends that NHTSA has granted prior petitions for similar noncompliances. Specifically, AROW refers to a petition submitted by Custom Glass Solution Upper Sandusky Corporation ² that involved glass panes that were “labeled with the incorrect manufacturer's code mark, incorrect Manufacturer's trademark, and incorrect manufacturer's model number, and were incorrectly marked as Tempered.” AROW cited the following from NHTSA's decision: NHTSA believes that the subject labeling errors are inconsequential to motor vehicle safety because the marking of glazing as “Tempered” or “Laminated” is not required by FMVSS No. 205, the probability of anyone in the United States obtaining the subject incorrectly marked glazing as replacement glazing is very unlikely since the affected glazing is specifically designed for use in mining vehicles manufactured by Atlas Copco in Australia. In addition, there is no concern that the wrong model number on the subject glazing would result in an incorrect replacement part being used because replacement parts are ordered by referring to the glazing part number or by identifying the vehicle for which the replacement glazing is intended.

² See Custom Glass Solutions Upper Sandusky Corporation, Grant of Petition for Decision of Inconsequential Noncompliance, 80 FR 3737 (January 23, 2015).

AROW concludes by stating its belief that the subject noncompliance is inconsequential as it relates to motor vehicle safety and its petition to be exempted from providing notification of the noncompliance, as required by 49 U.S.C. 30118, and a remedy for the noncompliance, as required by 49 U.S.C. 30120, should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject equipment that AROW no longer controlled at the time it determined that the noncompliance existed. However, any decision on this petition does not relieve equipment distributors and dealers of the prohibitions on the sale, offer for sale, or introduction or delivery for introduction into interstate commerce of the noncompliant equipment under their control after AROW notified them that the subject noncompliance existed.

(Authority: 49 U.S.C. 30118, 30120: delegations of authority at 49 CFR 1.95 and 501.8)

Otto G. Matheke, III,
Director, Office of Vehicle Safety Compliance.

[FR Doc. 2024-16482 Filed 7-25-24; 8:45 am]

BILLING CODE 4910-59-P